DEPARTMENT OF ENERGY

Federal Energy Regulatory Commission

Notice of Sunshine Act Meeting

September 5, 2001.

The following notice of meeting is published pursuant to section 3(A) of the Government in the Sunshine Act (Pub. L. No. 94-409), 5 U.S.C. 552B:

AGENCY HOLDING MEETING: Federal Energy Regulatory Commission.

DATE AND TIME: September 12, 2001, 10:00 A.M.

PLACE: Room 2C, 888 First Street, NE., Washington, DC 20426.

STATUS: Open.

MATTERS TO BE CONSIDERED: Agenda.

Note: Items listed on the agenda may be deleted without further notice.

CONTACT PERSON FOR MORE INFORMATION: David P. Boergers, Secretary, telephone (202) 208-0400 for a recording listing items stricken from or added to the meeting, call (202) 208-1627.

This is a list of matters to be considered by the Commission. It does not include a listing of all papers relevant to the items on the agenda; however, all public documents may be examined in the reference and information center.

773rd—Meeting September 12, 2001, Regular Meeting, 10:00 A.M.

Administrative

A-1.

Docket# AD01-1, 000, Strategic and 2002 Business Plans

A-2.

Docket# AD01-2, 000, Infrastructure Adequacy

A-3.

Docket# AD01-3, 000, California Infrastructure Update

A-4.

Docket# AD01-4, 000, Building Update

A-5.

Docket# AD01-5, 000, Delegations of Authority

Markets, Tariffs and Rates—Electric

E-1.

Excess Generation Capacity Discussion

E-2.

Significant National Transmission Constraints Discussion

E-3.

Docket# ER01-2609, 000, Southern California Edison Company

E-4.

Docket# ER01-2633, 000, PPL Montana, LLC

E-5.

Docket# ER01-2658, 000, American Electric Power Service Corporation

E-6.

Docket# ER01-2529, 000, Sierra Pacific Power Company and Nevada Power Company

Other#s ER00-3188, 001, Sierra Pacific Power Company and Nevada Power Company

ER00-3188, 002, Sierra Pacific Power Company and Nevada Power Company

E-7.

Docket# RT01-35, 002, Avista Corporation, The Bonneville Power Administration, Idaho Power Company, The Montana Power Company, Nevada Power Company, PacifiCorp, Portland General Electric Company, Puget Sound Energy, Inc. and Sierra Pacific Power Company

Other#s RT01-35, 003, Avista Corporation, The Bonneville Power Administration, Idaho Power Company, The Montana Power Company, Nevada Power Company, PacifiCorp, Portland General Electric Company, Puget Sound Energy, Inc. and Sierra Pacific Power Company

E-8.

Docket# ER01-1695, 002, Cambridge Electric Light Company

Other#s ER01-1705, 002, Boston Edison Company

ER01-1782, 002, Commonwealth Electric Company

E-9.

Omitted

E-10.

Docket# ER01-315, 000, Southern California Edison Company

E-11.

Docket# ER01-316, 000, ISO New England Inc.

E-12.

Docket# ER01-312, 000, Alliant Energy Corporate Services, Inc.

Other#s ER01-312, 001, Alliant Energy Corporate Services, Inc.

E-13.

Docket# ER01-745, 000, New England Power Company

Other#s ER01-745, 001, New England Power Company

E-14.

Docket# ER00-2366, 000, Ameren Services Company

E-15.

Docket# ER01-1740, 002, New York Independent System Operator, Inc.

E-16.

Docket# EL00-105, 004 City of Vernon, California

E-17.

Omitted

E-18.

Docket# ER00-771, 004, Tucson Electric Power Company

Other#s ER00-771, 005, Tucson Electric Power Company

E-19.

Docket# OA96-39, 004, Florida Power & Light Company

Other#s OA96-39, 000, Florida Power & Light Company

ER93-465, 027, Florida Power & Light Company

ER93-922, 014, Florida Power & Light Company

EL94-12, 009, Florida Power & Light Company

ER96-2381, 002, Florida Power & Light Company

E-20.

Docket# EL93-10, 000, Boston Edison Company

Other#s EL93-10, 010, Boston Edison Company

ER93-150, 000, Boston Edison Company

ER93-150, 017, Boston Edison Company

E-21.

Docket# EC00-46, 000, Vermont Yankee Nuclear Power Corporation

Other#s EC00-46, 001, Vermont Yankee Nuclear Power Corporation

EL00-86, 000, Vermont Yankee Nuclear Power Corporation

ER00-1027, 000, Vermont Yankee Nuclear Power Corporation

ER00-1027, 001, Vermont Yankee Nuclear Power Corporation

ER00-1027, 002, Vermont Yankee Nuclear Power Corporation

ER00-1028, 000, Vermont Yankee Nuclear Power Corporation

ER00-1028, 001, Vermont Yankee Nuclear Power Corporation

ER00-1029, 000, Vermont Yankee Nuclear Power Corporation

ER00-1029, 001, Vermont Yankee Nuclear Power Corporation

E-22.

Docket# EC01-97, 000, Energy East Corporation and RGS Energy Group, Inc.

E-23.

Docket# ER01-1928, 001, Central Maine Power Company

E-24.

Docket# ER00-2309, 003, Allegheny Energy Supply Company, L.L.C., The Potomac Edison Company and West Penn Power Company

E-25.

Docket# OA96-81, 001, Indianapolis Power & Light Company

E-26.

Omitted

E-27.

Docket# ER00-3295, 002, International Transmission Company

E-28.

Docket# ER01-1810, 003, Ameren Energy Marketing Company

E-29.

Docket# EL01-51, 004, Detroit Edison Company

Other#s ER01-1649, 004, Detroit Edison Company

E-30.

Docket# ER01-1807, 002, Carolina Power & Light Company and Florida Power & Light Company

Other#s ER01-2020, 001, Carolina Power & Light Company and Florida Power & Light Company

E-31.

Docket# ER01-2021, 002, Entergy Services, Inc.

Other#s ER01-2106, 002, Entergy Services, Inc.

E-32.

Docket# RT01-34, 003, Southwest Power Pool, Inc.

Other#s EC99-101, 005, Northern States Power Company (Minnesota) and New Century Energies, Inc.

RT01-75, 004, Entergy Services, Inc.

E-33.

Docket# ER01-1989, 002, Southwest Power Pool, Inc.

E-34.

Docket# ER00-3577, 004, New England Power Pool

E-35.

Docket# EL01-97, 000, Mirant Chalk Point, LLC, Mirant Mid-Atlantic, LLC, Mirant Peaker, LLC and Mirant Potomac River, LLC

Other#s ER01-2634, 000, Mirant Americas Energy Marketing, L.P. and Potomac Electric Power Company

E-36.

Docket# EL01-73, 000, Northeast Texas Electric Cooperative, Inc., Rusk County Electric Cooperative, Inc., Upshur-Rural Electric Cooperative, Inc. and Wood County Electric Cooperative, Inc.

E-37.

Docket# EL01-104, 000, Dynegy Power Marketing, Inc. v. Southwest Power Pool, Inc.

E-38.

Docket# NJ01-4, 000, Tri-State Generation and Transmission Association, Inc.

E-39.

Omitted

E-40.

Docket# EL01-98, 000, American Ref-Fuel Company of Niagara, L.P. v. Niagara Mohawk Power Corporation

E-41.

Omitted

E-42.

Omitted

E-43.

Docket# AC99-45, 000, The Detroit Edison Company

Other#s AC99-45, 001, The Detroit Edison Company

E-44.

Docket# ER01-889, 007, California Independent System Operator Corporation

Other#s EL00-95, 041, San Diego Gas & Electric Company v. Sellers of Energy and Ancillary Services into Markets Operated by the California Independent System Operator and the California Power Exchange

EL00-98, 039, San Diego Gas & Electric Company v. Sellers of Energy and Ancillary Services into Markets Operated by the California Independent System Operator and the California Power Exchange

EL00-104, 006, San Diego Gas & Electric Company v. Sellers of Energy and Ancillary Services into Markets Operated by the California Independent System Operator and the California Power Exchange

EL00-107, 007, San Diego Gas & Electric Company v. Sellers of Energy and Ancillary Services into Markets Operated by the California Independent System Operator and the California Power Exchange

EL01-1, 007, San Diego Gas & Electric Company v. Sellers of Energy and Ancillary Services into Markets Operated by the California Independent System Operator and the California Power Exchange

ER01-902, 004, California Power Exchange Corporation

E-45.

Docket# ER01-1771, 003, Idaho Power Company

E-46.

Docket# ER01-2115, 002, New England Power Pool

Other#s ER01-2192, 001, ISO New England, Inc.

EL01-85, 001, ISO New England, Inc.

ER01-2223, 001, New England Power Pool

ER01-2329, 001, New England Power Pool and ISO New England, Inc.

RT01-99, 002, Regional Transmission Organizations

Markets, Tariffs and Rates—Gas

G-1.

Docket# RP01-350, 000, Colorado Interstate Gas Company

Other#s RP01-200, 002, Colorado Interstate Gas Company

RP01-350, 001, Colorado Interstate Gas Company

G-2.

Docket# RP01-196, 000, Venice Gathering System, L.L.C.

G-3.

Docket# RP99-518, 019, PG&E Gas Transmission, Northwest Corporation

Other#s RP99-518, 020, PG&E Gas Transmission, Northwest Corporation

RP99-518, 021, PG&E Gas Transmission, Northwest Corporation

RP99-518, 022, PG&E Gas Transmission, Northwest Corporation

G-4.

Docket# RP00-632, 003, Dominion Transmission, Inc.

G-5.

Docket# RP00-328, 000, Algonquin LNG, Inc.

G-6.

Docket# RP98-40, 028, Panhandle Eastern Pipe Line Company

Other#s RP98-40, 024, Panhandle Eastern Pipe Line Company

G-7.

Omitted

G-8.

Docket# RP00-390, 001, Granite State Gas Transmission, Inc.

G-9.

Docket# RP00-485, 001, Steuben Gas Storage Company

G-10.

Docket# OR00-1, 000, Marathon Ashland Pipe Line LLC

G-11.

Docket# RP01-278, 000, Texas Gas Transmission Corporation

G-12.

Docket# MG01-24, 000, Columbia Gas Transmission Corporation

G-13.

Docket# MG01-25, 000, Crossroads Pipeline Company

G-14.

Docket# MG01-26, 000, Granite State Gas Transmission, Inc.

G-15.

Docket# MG01-27, 000, Columbia Gulf Transmission Company

G-16.

Docket# MG01-23, 000, Florida Gas Transmission Company

G-17.

Docket# RP00-344, 001, Dominion Transmission, Inc.

Other#s RP00-601, 000, Dominion Transmission, Inc.

G-18.

Docket# RP00-514, 003, Southern Natural Gas Company

G-19.

Omitted

G-20.

Docket# OR92-8, 010, SFPP, L.P.

Other#s OR92-8, 000, SFPP, L.P.

OR93-5, 000, SFPP, L.P.

OR93-5, 007, SFPP, L.P.

OR94-3, 000, SFPP, L.P.

OR94-4, 000, SFPP, L.P.

OR94-4, 007, SFPP, L.P.

OR95-5, 000, Mobil Oil Corporation v. SFPP, L.P.

OR95-5, 006, Mobil Oil Corporation v. SFPP, L.P.

OR95-34, 000, Tosco Corporation v. SFPP, L.P.

IS99-144, 000, SFPP, L.P.

IS99-144, 001, SFPP, L.P.

IS99-144, 002, SFPP, L.P.

IS00-379, 000, SFPP, L.P.

Energy Projects—Hydro

H-1.

Docket# P-739, 013, Appalachian Power Company

Other#s P-77, 115, Pacific Gas and Electric Company

P-96, 030, Pacific Gas and Electric Company

P-175, 017, Pacific Gas and Electric Company

P-178, 014, Pacific Gas and Electric Company

P-233, 080, Pacific Gas and Electric Company

P-401, 026, Indiana Michigan Power Company

P-487, 031, PP&L, Inc.

P-606, 019, Pacific Gas and Electric Company

P-619, 092, Pacific Gas and Electric Company

P-803, 054, Pacific Gas and Electric Company

P-1025, 047, Safe Harbor Water Power Corporation

P-1061, 054, Pacific Gas and Electric Company

P-1121, 057, Pacific Gas and Electric Company

P-1175, 010, Appalachian Power Company

P-1267, 048, Greenwood County, South Carolina

P-1290, 009, Appalachian Power Company

P-1333, 036, Pacific Gas and Electric Company

P-1354, 028, Pacific Gas and Electric Company

P-1403, 041, Pacific Gas and Electric Company

P-1835, 214, Nebraska Public Power District

P-1855, 025, USGen New England, Inc.

P-1881, 036, PP&L, Inc.

P-1892, 015, USGen New England, Inc.

P-1904, 034, USGen New England, Inc.

P-1962, 037, Pacific Gas and Electric Company

P-1982, 024, Northern States Power Company

P-1988, 027, Pacific Gas and Electric Company

P-2047, 014, Erie Boulevard Hydropower, L.P.

P-2056, 024, Northern States Power Company

P-2058, 018, Avista Corporation

P-2075, 016, Avista Corporation

P-2077, 020, USGen New England, Inc.

P-2084, 029, Erie Boulevard Hydropower, L.P.

P-2105, 086, Pacific Gas and Electric Company

P-2106, 037, Pacific Gas and Electric Company

P-2107, 009, Pacific Gas and Electric Company

P-2114, 095, Public Utility District No. 2 of Grant County, Washington

P-2130, 028, Pacific Gas and Electric Company

P-2155, 021, Pacific Gas and Electric Company

P-2181, 012, Northern States Power Company

P-2210, 068, Appalachian Power Company

P-2232, 429, Duke Power, Division of Duke Energy Corporation

P-2310, 117, Pacific Gas and Electric Company

P-2318, 014, Erie Boulevard Hydropower, L.P.

P-2320, 027, Erie Boulevard Hydropower, L.P.

P-2323, 095, USGen New England, Inc.

P-2330, 045, Erie Boulevard Hydropower, L.P.

P-2331, 019, Duke Power, Division of Duke Energy Corporation

P-2332, 028, Duke Power, Division of Duke Energy Corporation

P-2376, 032, Appalachian Power Company

P-2440, 043, Northern States Power Company

P-2466, 025, Appalachian Power Company

P-2467, 015, Pacific Gas and Electric Company

P-2474, 015, Erie Boulevard Hydropower, L.P.

P-2482, 034, Erie Boulevard Hydropower, L.P.

P-2491, 028, Northern States Power Company

P-2503, 063, Duke Power, Division of Duke Energy Corporation

P-2514, 068, Appalachian Power Company

P-2538, 058, Erie Boulevard Hydropower, L.P.

P-2539, 018, Erie Boulevard Hydropower, L.P.

P-2545, 072, Avista Corporation

P-2551, 035, Indiana Michigan Power Company

P-2554, 015, Erie Boulevard Hydropower, L.P.

P-2567, 012, Northern States Power Company

P-2569, 084, Erie Boulevard Hydropower, L.P.

P-2570, 028, Ohio Power Company

P-2579, 042, Indiana Michigan Power Company

P-2616, 021, Erie Boulevard Hydropower, L.P.

P-2619, 008, Nantahala Power & Light Company

P-2639, 011, Wisconsin Electric Power Company

P-2645, 104, Erie Boulevard Hydropower, L.P.

P-2651, 019, Indiana Michigan Power Company

P-2661, 014, Pacific Gas and Electric Company

P-2669, 027, USGen New England, Inc.

P-2670, 017, Northern States Power Company

P-2686, 026, Nantahala Power & Light Company

P-2687, 020, Pacific Gas and Electric Company

P-2692, 027, Nantahala Power & Light Company

P-2696, 016, Erie Boulevard Hydropower, L.P.

P-2697, 012, Northern States Power Company

P-2698, 027, Nantahala Power & Light Company

P-2701, 041, Erie Boulevard Hydropower, L.P.

P-2713, 060, Erie Boulevard Hydropower, L.P.

P-2735, 069, Pacific Gas and Electric Company

P-2740, 045, Duke Power, a Division of Duke Energy Corporation

P-2837, 017, Erie Boulevard Hydropower, L.P.

P-4472, 022, Erie Boulevard Hydropower, L.P.

P-5984, 038, Erie Boulevard Hydropower, L.P.

P-7320, 022, Erie Boulevard Hydropower, L.P.

P-7387, 015, Erie Boulevard Hydropower, L.P.

P-11408, 036, Erie Boulevard Hydropower, L.P.

H-2.

Docket# P-18, 064, Idaho Power Company

H-3.

Docket# P-2899, 102, Idaho Power Company and Milner Dam, Inc.

H-4.

Docket# P-4515, 010, Eric R. Jacobson

Other#s P-4515, 014, Eric R. Jacobson

H-5.

Omitted

H-6.

Docket# P-2145, 041, Public Utility District No. 1 of Chelan County, Washington

H-7.

Docket# P-2114, 091, Public Utility District No. 2 of Grant County, Washington

H-8.

Docket# P-11907, 000, Town of Bristol, New Hampshire

H-9.

Docket# P-11901, 000, Town of Bristol, New Hampshire

Energy Projects—Certificates

C-1.

Omitted

C-2.

Docket# CP98-200, 004, National Fuel Gas Supply Corporation

C-3.

Docket# RM99-5, 003, Regulations Under the Outer Continental Shelf Lands Act Governing the Movement of Natural Gas and Facilities on the Outer Continental Shelf

C-4.

Docket# CP01-90, 001, El Paso Natural Gas Company

Other#s RP00-336, 004, El Paso Natural Gas Company

C-5.

Docket# CP00-387, 001, PNM Gas Services, a Division of Public Service Company of New Mexico and PNM Electric and Gas Services, Inc.

Other#s CP00-388, 001, PNM Gas Services, a Division of Public Service Company of New Mexico and PNM Electric and Gas Services, Inc.

CP00-397, 001, PNM Gas Services, a Division of Public Service Company of New Mexico and PNM Electric and Gas Services, Inc.

Miscellaneous

M-1.

Docket# RM01-10, 000, Standards of Conduct for Transmission Providers

M-2.

Docket# RM01-11, 000, Electronic Service

David P. Boergers,
Secretary.

[FR Doc. 01-22831 Filed 9-10-01; 8:45 am]

BILLING CODE 6717-01-P